DEPARTMENT OF TRANSPORTATION

Federal Aviation Administration

14 CFR Part 47

[Docket No. FAA-2025-0638]

Request for Comment To Withhold Certain Aircraft Registration Information From Public Dissemination

AGENCY: Federal Aviation Administration (FAA), Department of Transportation (DOT).

ACTION: Request for comment.

SUMMARY: The Federal Aviation Administration (FAA) is seeking comment on the impacts of removing certain aircraft registration data from public display on the FAA website, including through current search functions and published reports. The removal of this data is intended to satisfy the requirement in section 803 of the FAA Reauthorization Act of 2024, requiring removal of private aircraft owner or operator Personally Identifiable Information (PII) from broad dissemination or display by the FAA, including on a publicly available website of the FAA.

DATES: Send comments on or before May 5, 2025.

ADDRESSES: Send comments identified by docket number FAA-2025-0638 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC 20590, between 9 a.m. and 5 p.m., Monday through Friday, except Federal holidays.

• Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC 20590, between 9 a.m. and 5 p.m., Monday through Friday, except Federal holidays.

FOR FURTHER INFORMATION CONTACT: Natalie Wilkowske, Flight Standards Service, Registry Bldg., Room 118, 6425 S Denning Ave., Oklahoma City, OK 73169; telephone (405) 954-2539; email faa.aircraft.registry@faa.gov.

SUPPLEMENTARY INFORMATION: Section 803 of the FAA Reauthorization Act of 2024, Public Law 118-63, amended chapter 441 of title 49, United States Code, by adding 49 U.S.C. 44114. Section 44114(b) requires that, not later than 2 years after the enactment of the FAA Reauthorization Act of 2024 (May 16, 2026), notwithstanding any other provision of law, including section 552(b)(3) of title 5, the Administrator shall establish a procedure by which, upon request of a private aircraft owner or operator, the Administrator shall withhold from broad dissemination or display by the FAA (except in furnished data or information made available to or from a Government agency pursuant to a government contract, subcontract, or agreement, including for traffic management purposes) the personally identifiable information of such individual, including on a publicly available website of the FAA. Aircraft owners will retain the ability to view their own aircraft information.

This request for comment seeks public input on the impacts of the FAA removing certain aircraft registration data from FAA websites. Specifically, the data that will be removed includes the following categories:

(A) the mailing address or registration address of the registered owner(s);

(B) an electronic address (including an email address) of a registered owner(s); or

(C) the telephone number of a registered owner(s).

(D) the name(s) of the aircraft owner(s).

FAA websites receive over 1 million visits per month for reports and aircraft inquiries. Due to this activity volume, the FAA seeks comments regarding the following:

1. How often do people or organizations access or use registered owner information, and how is this information used?

2. What would be the impact on privacy, safety, commerce, and accessibility of information if the identified categories of registered owner information are removed from public availability?

3. How would the removal of such information affect the ability of stakeholders to perform necessary functions, such as maintenance, safety checks, and regulatory compliance?

4. How should FAA implement the removal of identified categories of registered owner information from public availability?

5. What would be the impact if the FAA removed such information for private aircraft owners categorically and permitted such owners to request copies of their information rather than removing such information only upon an individual request?

6. What additional aircraft registration data should be removed from FAA websites?

Additional Information

A. Comments Invited

FAA invites interested persons to participate in this action by submitting written comments, data, or views. The most helpful comments explain the reason for any recommended change and include supporting data. To ensure the docket does not contain duplicate comments, commenters should submit only one time if comments are filed electronically, or commenters should send only one copy of written comments if comments are filed in writing.

FAA will file in the docket all comments it receives, as well as a report summarizing each substantive public contact with FAA personnel concerning this request for comments. FAA will consider all comments it receives on or before the closing date for comments.

Privacy: In accordance with 5 U.S.C. 553(c), DOT solicits comments from the public to better inform its implementation of section 803 of the FAA Reauthorization Act of 2024. DOT posts these comments, without edit, including any personal information the commenter provides, to www.regulations.gov, as described in the system of records notice (DOT/ALL-14 FDMS), which can be reviewed at www.dot.gov/privacy.

B. Confidential Business Information

Confidential Business Information (CBI) is commercial or financial information that is both customarily and actually treated as private by its owner. Under the Freedom of Information Act (FOIA) (5 U.S.C. 552), CBI is exempt from public disclosure. If your comments responsive to this request for comments contain commercial or financial information that is customarily treated as private, that you actually treat as private, and that is relevant or responsive to this request for comments, it is important that you clearly designate the submitted comments as CBI. Please mark each page of your submission containing CBI as “PROPIN.” FAA will treat such marked submissions as confidential under the FOIA, and they will not be placed in the public docket of this request for comments. Submissions containing CBI should be sent to the person in the FOR FURTHER INFORMATION CONTACT section of this document. Any commentary that FAA receives which is not specifically designated as CBI will be placed in the public docket for this request for comments.

C. Electronic Access and Filing

A copy of this request for comments, all comments received, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.govinfo.gov.

Copies may also be obtained by sending a request to the Federal Aviation Administration, Office of Rulemaking, ARM-1, 800 Independence Avenue SW, Washington, DC 20591, or by calling (202) 267-9677. Commenters must identify the docket number of this request for comments.

D. Small Business Regulatory Enforcement Fairness Act

The Small Business Regulatory Enforcement Fairness Act (SBREFA) of 1996 requires FAA to comply with small entity requests for information or advice about compliance with statutes and regulations within its jurisdiction. A small entity with questions regarding this document may contact its local FAA official, or the person listed under the FOR FURTHER INFORMATION CONTACT heading at the beginning of the preamble. To find out more about SBREFA on the internet, visit www.faa.gov/regulations_policies/rulemaking/sbre_act/.

Issued under the authority of 49 U.S.C. 44114 in Washington, DC.
Hugh J. Thomas,
Acting Deputy Executive Director, Flight Standards Service.

[FR Doc. 2025-05738 Filed 4-2-25; 8:45 am]

BILLING CODE 4910-13-P